DEPARTMENT OF THE INTERIOR

National Park Service

[NPS-WASO-NAGPRA-23599; PCU00RP14.R50000-PPWOCRDN0]

Notice of Inventory Completion: U.S. Department of the Interior, Bureau of Indian Affairs, Washington, DC; and University of Nevada, Reno, Anthropology Research Museum, Reno, NV

AGENCY: National Park Service, Interior.

ACTION: Notice.

SUMMARY: The U.S. Department of the Interior, Bureau of Indian Affairs, and the University of Nevada, Reno, Anthropology Research Museum, have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bureau of Indian Affairs. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bureau of Indian Affairs at the address in this notice by September 7, 2017.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC, and in the physical custody of the University of Nevada, Reno, Anthropology Research Museum, Reno, NV. The human remains and associated funerary objects were removed from several sites near Pyramid Lake in Washoe County, NV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the U.S. Department of the Interior, Bureau of Indian Affairs, professional staff in consultation with representatives of the Pyramid Lake Paiute Tribe of the Pyramid Lake Reservation, Nevada.

History and Description of the Remains

At an unknown date in 1968, human remains representing, at minimum, one individual were removed by an amateur archeologist from a site located one mile east of Needles, at Pyramid Lake in Washoe County, NV. The human remains were donated to the Nevada Archaeological Survey (NAS) in the same year. NAS later became part of the University of Nevada, Reno, Department of Anthropology, where the human remains have continued to be housed. The Anthropology Research Museum is part of the Department of Anthropology and provides curation. No known individual was identified. No associated funerary objects are present.

In April of 1968, human remains representing, at minimum, one individual were removed from site 26WA1616, located approximately 50 yards from the shoreline of Pyramid Lake in Washoe County, NV. The human remains were deposited at the University of Nevada, Reno, Department of Anthropology. The Anthropology Research Museum is part of the Department of Anthropology and provides curation. No known individual was identified. No associated funerary objects are present.

At an unknown date in 1972, human remains representing, at minimum, one individual were removed from site 26WA162, located in the northwest corner of Pyramid Lake in Washoe County, NV. The human remains were donated to NAS in the same year. NAS later became part of the University of Nevada, Reno, Department of Anthropology, where the human remains have continued to be housed. The Anthropology Research Museum is part of the Department of Anthropology and provides curation. No known individual was identified. The five associated funerary objects are two quartzite flakes and three animal bones.

Geographic, historic, and anthropological evidence indicates that the human remains from these sites are Native American. The location of the burial is within the boundaries of the Pyramid Lake Reservation. Historic documents and archeological and consultation evidence, including tribal oral history, indicate that this area has been occupied by the Pyramid Lake Paiute Tribe of the Pyramid Lake Reservation, Nevada, since pre-contact times. Based on this evidence, the human remains have been determined to be culturally affiliated with the Pyramid Lake Paiute Tribe of the Pyramid Lake Reservation, Nevada.

Determinations Made by the Bureau of Indian Affairs

Officials of the Bureau of Indian Affairs have determined that:

• Pursuant to 25 U.S.C. 3001(9), the human remains described in this notice represent the physical remains of three individuals of Native American ancestry.

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American human remains and associated funerary objects and the Pyramid Lake Paiute Tribe of the Pyramid Lake Reservation, Nevada.

Additional Requestors and Disposition

Lineal descendants or representatives of any Indian Tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by September 7, 2017. After that date, if no additional requestors have come forward, transfer of control of the human remains and associated funerary objects to the Pyramid Lake Paiute Tribe of the Pyramid Lake Reservation, Nevada, may proceed.

The Bureau of Indian Affairs is responsible for notifying the Pyramid Lake Paiute Tribe of the Pyramid Lake Reservation, Nevada, that this notice has been published.

Dated: June 20, 2017.
Melanie O'Brien,
Manager, National NAGPRA Program.

[FR Doc. 2017-16626 Filed 8-7-17; 8:45 am]

BILLING CODE 4312-52-P